DEPARTMENT OF TRANSPORTATION

Federal Aviation Administration

14 CFR Part 39

[Docket No. 2002-NM-123-AD; Amendment 39-12755; AD 2002-10-09]

RIN 2120-AA64

Airworthiness Directives; Gulfstream Aerospace LP Model Galaxy and Gulfstream 200 Airplanes

AGENCY: Federal Aviation Administration, DOT.

ACTION: Final rule; request for comments.

SUMMARY: This amendment adopts a new airworthiness directive (AD) that is applicable to certain Gulfstream Aerospace LP Model Galaxy and Gulfstream 200 airplanes. This action requires repetitive inspections for evidence of fuel accumulation inside of the aft service compartment; and follow-on actions, if necessary. This AD also provides for an optional terminating modification. This action is necessary to prevent such fuel accumulation, which could result in fuel vapors coming into contact with ignition sources and consequent fire. This action is intended to address the identified unsafe condition.

DATES: Effective June 6, 2002.

The incorporation by reference of certain publications listed in the regulations is approved by the Director of the Federal Register as of June 6, 2002.

Comments for inclusion in the Rules Docket must be received on or before June 21, 2002.

ADDRESSES: Submit comments in triplicate to the Federal Aviation Administration (FAA), Transport Airplane Directorate, ANM-114, Attention: Rules Docket No. 2002-NM-123-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via the Internet must contain “Docket No. 2002-NM-123-AD” in the subject line and need not be submitted in triplicate. Comments sent via fax or the Internet as attached electronic files must be formatted in Microsoft Word 97 for Windows or ASCII text.

The service information referenced in this AD may be obtained from Gulfstream Aerospace Corporation, P.O. Box 2206, Mail Station D25, Savannah, Georgia 31402. This information may be examined at the FAA, Transport Airplane Directorate, 1601 Lind Avenue, SW., Renton, Washington; or at the Office of the Federal Register, 800 North Capitol Street, NW., suite 700, Washington, DC.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: The Civil Aviation Administration of Israel (CAAI), which is the airworthiness authority for Israel, recently notified the FAA that an unsafe condition may exist on certain Model Galaxy and Gulfstream 200 airplanes. The CAAI advises that fuel was found on service door 310AB and in the aft service compartment on several airplanes. The cause of the fuel leakage has not yet been determined. This condition, if not corrected, could result in a fire in the aft service compartment of the airplane.

Explanation of Relevant Service Information

Gulfstream has issued GALAXY Alert Service Bulletin GALAXY-28A-130, dated March 22, 2002, which describes procedures for repetitive general visual inspections for evidence of fuel accumulation inside of the aft service compartment; and follow-on actions, if necessary. The follow-on actions include performing a leak test to identify the source of any fuel leak if there is fuel accumulation; repairing any fuel leak found; or, if the source of the leak cannot be found, performing an engine run-up leak test, and sealing certain drain holes and the access door with speed tape prior to a ferry flight to an authorized service center. The CAAI classified this alert service bulletin as mandatory and issued Israeli airworthiness directive 28-02-03-15, dated March 26, 2002, in order to assure the continued airworthiness of these airplanes in Israel.

Since the issuance of the Israeli airworthiness directive, the manufacturer has issued Gulfstream Service Bulletin 200-53-127, dated May 2, 2002, which describes procedures for modification of the aft fuselage area, which eliminates the need for the repetitive inspections. The modification includes ensuring that certain drain holes are present and are eight millimeters in diameter; installing a diverter around the access door of the aft service compartment; installing grommets on fuselage drain holes; installing an extension to the existing auxiliary power unit diverter; drilling fastener holes, installing, and sealing an angle for tail cone drainage; removing certain fuel vent tubes; repairing or replacing the form in-place gasket between the service door and fuselage, if necessary; and applying finishing treatment. The CAAI classified this service bulletin as mandatory in order to assure the continued airworthiness of these airplanes in Israel.

FAA's Conclusions

These airplane models are manufactured in Israel and are type certificated for operation in the United States under the provisions of section 21.29 of the Federal Aviation Regulations (14 CFR 21.29) and the applicable bilateral airworthiness agreement. Pursuant to this bilateral airworthiness agreement, the CAAI has kept the FAA informed of the situation described above. The FAA has examined the findings of the CAAI, reviewed all available information, and determined that AD action is necessary for products of this type design that are certificated for operation in the United States.

Explanation of Requirements of Rule

Since an unsafe condition has been identified that is likely to exist or develop on other airplanes of the same type design registered in the United States, this AD requires accomplishment of the actions specified in the alert service bulletin described previously, except as discussed below.

Differences Between This AD, Service Information, and Foreign Airworthiness Directive

This AD differs from the parallel Israeli airworthiness directive and GALAXY alert service bulletin in that it requires accomplishment of the initial inspection within five flight cycles after the effective date of this AD. The alert service bulletin and the Israeli airworthiness directive recommend accomplishment of the initial inspection prior to further flight. In developing an appropriate compliance time for this AD, the FAA considered not only the CAAI's recommendation, but the degree of urgency associated with addressing the subject unsafe condition, and the average utilization of the affected fleet. In light of these factors, we have determined that requiring the inspection within five flight cycles after the effective date of the AD will not adversely affect safety and allows reasonable time for operators to accomplish the inspection without immediately taking airplanes out of service.

Additionally, operators should note that, although the Israeli airworthiness directive does not reference a modification, this AD mandates modification of the aft fuselage area for conditions where fuel leakage cannot be found.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2002-NM-123-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-10-09 Gulfstream Aerospace LP (Formerly Israel Aircraft Industries, Ltd.): Amendment 39-12755. Docket 2002-NM-123-AD.

Applicability: Model Galaxy airplanes, having serial numbers 004 through 056 inclusive; and Gulfstream 200 airplanes, having serial numbers 057 through 061 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent fuel accumulation inside of the aft service compartment, which could result in fuel vapors coming into contact with ignition sources and consequent fire, accomplish the following:

Repetitive Inspections/Follow-On Actions

(a) Within 5 flight cycles after the effective date of this AD, do a general visual inspection to detect evidence of fuel accumulation inside of the aft service compartment, per the Accomplishment Instructions of GALAXY (Gulfstream Aerospace Corporation) Alert Service Bulletin GALAXY-28A-130, dated March 22, 2002.

Note 2: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) If no evidence of fuel accumulation is found, repeat the inspection required by paragraph (a) of this AD at intervals not to exceed 5 flight cycles until the modification provided by paragraph (b) of this AD has been accomplished. Accomplishment of the modification terminates the requirements of this AD.

(2) If any evidence of fuel accumulation is found, before further flight, accomplish the leak test per paragraph 5.A. of the Accomplishment Instructions of the alert service bulletin.

(i) If no fuel leak is found, before further flight, accomplish the modification provided by paragraph (b) of this AD. Accomplishment of the modification terminates the requirements of this AD.

(ii) If a fuel leak is found, before further flight, repair the leak per paragraph 5. of the Accomplishment Instructions of the alert service bulletin. Thereafter, repeat the inspection required by paragraph (a) of this AD at intervals not to exceed 5 flight cycles until the modification provided by paragraph (b) of this AD has been accomplished. Accomplishment of the modification terminates the requirements of this AD.

Optional Terminating Modification

(b) Accomplishment of the modification of the aft fuselage area (includes ensuring that certain drain holes are present and are 8 millimeters in diameter; installing a diverter around the access door of the aft service compartment; installing grommets on fuselage drain holes, installing an extension to the existing APU diverter, drilling fastener holes), per the Accomplishment Instructions of Gulfstream Service Bulletin 200-53-127, dated May 2, 2002, constitutes terminating action for the requirements of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished, provided the actions listed in paragraph 6. of the Accomplishment Instructions of GALAXY (Gulfstream Aerospace Corporation) Alert Service Bulletin GALAXY-28A-130, dated March 22, 2002, have been accomplished.

Incorporation by Reference

(e) The actions required by paragraph (a) of this AD, shall be done in accordance with GALAXY (Gulfstream Aerospace Corporation) Alert Service Bulletin GALAXY-28A-130, dated March 22, 2002. The modification provided by paragraph (b) of this AD, if accomplished, shall be done in accordance with Gulfstream Service Bulletin 200-53-127, dated May 2, 2002. This incorporation by reference was approved by the Director of the Federal Register in accordance with 5 U.S.C. 552(a) and 1 CFR part 51. Copies may be obtained from Gulfstream Aerospace Corporation, P.O. Box 2206, Mail Station D25, Savannah, Georgia 31402. Copies may be inspected at the FAA, Transport Airplane Directorate, 1601 Lind Avenue, SW., Renton, Washington; or at the Office of the Federal Register, 800 North Capitol Street, NW., suite 700, Washington, DC.

Note 4: The subject of this AD is addressed in Israeli airworthiness directive 28-02-03-15, dated March 26, 2002.

Effective Date

(f) This amendment becomes effective on June 6, 2002.

Issued in Renton, Washington, on May 13, 2002.
Ali Bahrami,
Acting Manager, Transport Airplane Directorate, Aircraft Certification Service.

[FR Doc. 02-12516 Filed 5-21-02; 8:45 am]

BILLING CODE 4910-13-P